NATIONAL ARCHIVES AND RECORDS ADMINISTRATION

[NARA-2017-009]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records not previously authorized for disposal or reduce the retention period of records already authorized for disposal. NARA invites public comments on such records schedules.

DATES: NARA must receive requests for copies in writing by December 29, 2016. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2016-0016, 1 item, 1 temporary item). Records related to the Forestry Incentive and Land Enhancement Programs, including annual performance reviews, correspondence, program development files, payment documents, appeals, and participant folders.

2. Department of Commerce, National Telecommunications and Information Administration (DAA-0417-2016-0001, 1 item, 1 temporary item). Strip chart records to include recordings of very low frequency radio waves for measuring natural phenomena.

3. Department of Defense, National Guard Bureau (DAA-0168-2016-0007, 4 items, 4 temporary items). Records relating to the administration of protocol including copies of personnel records and forms, military awards files, records pertaining to graphics and printing operations, and related program files.

4. Department of Homeland Security, Immigration and Customs Enforcement (DAA-0567-2016-0005, 4 items, 4 temporary items). Records related to office administration and personnel, including records of meetings, internal performance reviews, change of employment station records, and records pertaining to recovery of personnel from work-related trauma.

5. Department of State, Bureau of Diplomatic Security (DAA-0059-2016-0006, 4 items, 4 temporary items). Records of the Victims' Resource Advocacy Program including routine administrative files, training materials, and intake forms.

6. Central Intelligence Agency, Agency-wide (N1-263-12-2, 7 items, 7 temporary items). Records related to human resources, payroll administration, secrecy agreements, and intelligence collection and operations.

7. Central Intelligence Agency, Agency-wide (DAA-0263-2016-0004, 2 items, 2 temporary items). Records related to open source audio and video collected with minimal or no business value.

8. National Aeronautics and Space Administration, Agency-wide (DAA-0255-2016-0001, 1 item, 1 temporary item). Routine employee safety activity records such as safety meeting minutes, fire extinguisher location logs, and safety visit documents.

9. National Aeronautics and Space Administration, Agency-wide (DAA-0255-2016-0002, 2 items, 2 temporary items). Routine employee reports on agency facility safety concerns and safety suggestions.

10. National Archives and Records Administration, Agency-wide (DAA-0064-2016-0003, 3 items, 2 temporary items). Records related to special studies. Proposed for permanent retention are significant studies that change agency policies and procedures.

11. National Archives and Records Administration, Agency-wide (DAA-0064-2016-0005, 3 items, 2 temporary items). Records related to special projects. Proposed for permanent retention are significant projects that result in a change of agency policies and procedures, have a major impact on the archival or records management profession, or have historical significance relating to the agency mission.

12. National Archives and Records Administration, Agency-wide (DAA-0064-2016-0015, 1 item, 1 temporary item). Records related to committees not sponsored by the agency, including membership lists, briefing books, by-laws, meeting minutes, questionnaires, surveys, studies, publications, speeches, and reports.

13. National Archives and Records Administration, Federal Records Center Program (DAA-0064-2016-0016, 1 item, 1 temporary item). Records related to the records management services program.

14. National Archives and Records Administration, Office of the Chief Records Officer (DAA-0064-2016-0017, 1 item, 1 temporary item). Records related to Federal agency records management assistance projects, including memorandums of understanding, reports, customer satisfaction surveys, correspondence, and project documentation.

15. National Archives and Records Administration, Office of Human Capital (DAA-0064-2016-0007, 2 items, 2 temporary items). Records related to the accountability program, including reports, statistical studies, working papers, correspondence, subject files, training materials, and surveys.

16. National Archives and Records Administration, Office of Human Capital (DAA-0064-2016-0009, 3 items, 3 temporary items). Records related to workplace protection, including reports, correspondence, working papers, and training materials regarding domestic violence, sexual assault, and stalking.

17. National Archives and Records Administration, Office of Inspector General (DAA-0064-2016-0006, 5 items, 4 temporary items). Routine investigative case files; closed complaint, referral, and preliminary files; investigative training records; and related materials. Proposed for permanent retention are significant investigative case files.

18. National Archives and Records Administration, Research Services (DAA-0064-2016-0008, 3 items, 3 temporary items). Records related to pest management, including planning strategy documents, working papers, reports, responses, statistical studies, findings, and assessments.

19. Special Inspector General for Afghanistan Reconstruction, Agency-wide (DAA-0220-2016-0003, 11 items, 9 temporary items). Records of the Inspector General's office including peer review records, conference and event planning materials, and related materials. Proposed for permanent retention are special project reports and final lessons learned reports.

Laurence Brewer,
Chief Records Officer for the U.S. Government.

[FR Doc. 2016-28687 Filed 11-28-16; 8:45 am]

BILLING CODE 7515-01-P